DEPARTMENT OF TRANSPORTATION

Federal Railroad Administration

[Docket Number FRA-2018-0060]

Petition for Approval

Under part 211 of Title 49 Code of Federal Regulations (CFR), this provides the public notice that by a letter dated June 19, 2018, the East Penn, Middletown New Jersey, and Tyburn Railroads (Petitioners) petitioned the Federal Railroad Administration (FRA) seeking approval pursuant to 49 CFR 220.307, Use of railroad-supplied electronic devices. FRA assigned the petition Docket Number FRA-2018-0060.

Specifically, Petitioners seek FRA's approval to allow an operating employee to use the camera on an authorized railroad-supplied electronic device (a camera phone) for authorized business purposes, such as photographing a safety hazard, mechanical, and/or track defects. A railroad operating employee may only use a railroad-supplied electronic device for an authorized business purpose, involving the taking of a photograph or video, as specified by the railroad in writing, if approved by FRA. See 49 CFR 220.307(a), General restriction.

A copy of the petition, as well as any written communications concerning the petition, is available for review online at www.regulations.gov and in person at the U.S. Department of Transportation's (DOT) Docket Operations Facility, 1200 New Jersey Avenue SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Avenue SE, W12-140, Washington, DC 20590.

• Hand Delivery: 1200 New Jersey Avenue SE, Room W12-140, Washington, DC 20590, between 9 a.m. and 5 p.m., Monday through Friday, except Federal Holidays.

Communications received by October 4, 2018 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC, on August 15, 2018.
John K. Alexy,
Deputy Associate Administrator, Office of Safety.

[FR Doc. 2018-17890 Filed 8-17-18; 8:45 am]

BILLING CODE 4910-06-P